PENSION BENEFIT GUARANTY CORPORATION

Announcement of OMB Approvals of Information Collections

AGENCY: Pension Benefit Guaranty Corporation.

ACTION: Notice of OMB approvals.

SUMMARY: The Office of Management and Budget (OMB) has approved Pension Benefit Guaranty Corporation (PBGC) information collections under the Paperwork Reduction Act. This notice lists the approved information collections and provides their corresponding OMB control number and current expiration date.

FOR FURTHER INFORMATION CONTACT: Monica O'Donnell (o'donnell.monica@pbgc.gov), Attorney, Regulatory Affairs Division, Office of the General Counsel, Pension Benefit Guaranty Corporation, 445 12th Street SW, Washington, DC 20024-2101; 202-229-8706. If you are deaf or hard of hearing or have a speech disability, please dial 7-1-1 to access telecommunications relay services.

SUPPLEMENTARY INFORMATION: The Paperwork Reduction Act of 1995 (PRA) (44 U.S.C. 3501 et seq.) and its implementing regulations require Federal agencies, after receiving OMB approval of information collections, to display OMB control numbers and inform respondents of their legal significance. In accordance with those requirements, PBGC hereby notifies the public that the following information collections, that are contained in PBGC's regulations and do not have a corresponding form, have been approved by OMB.

• OMB Control Number 1212-0063 Filings for Reconsiderations. The expiration date for this information collection contained in 29 CFR part 4003 is August 31, 2025.

• OMB Control Number 1212-0021 Variances for Sale of Assets. The expiration date for this information collection contained in 29 CFR part 4204 is May 31, 2026.

• OMB Control Number 1212-0023 Extension of Special Withdrawal Liability Rules. The expiration date for this information collection contained in 29 CFR part 4203 is May 31, 2026.

• OMB Control Number 1212-0031 Procedures for PBGC Approval of Plan Amendments. The expiration date for this information collection contained in 29 CFR part 4220 is May 31, 2026.

• OMB Control Number 1212-0034 Notice, Collection, and Redetermination of Withdrawal Liability. The expiration date of this information collection contained in 29 CFR part 4219 is May 31, 2026.

• OMB Control Number 1212-0035 Allocating Unfunded Vested Benefits. The expiration date for this information collection contained in 29 CFR part 4211 is May 31, 2026.

• OMB Control Number 1212-0039 Reduction or Waiver of Partial Withdrawal Liability. The expiration date for this information collection contained in 29 CFR part 4208 is May 31, 2026.

• OMB Control Number 1212-0044 Reduction or Waiver of Complete Withdrawal Liability. The expiration date for this information collection contained in 29 CFR part 4207 is May 31, 2026.

• OMB Control Number 1212-0017 Liability for Termination of Single-Employer Plans. The expiration date for this information collection contained in 29 CFR part 4062 is August 31, 2026.

The PRA provides that an agency may not conduct or sponsor, and a person is not required to respond to, a collection of information unless it displays a currently valid OMB control number. Publication of this notice satisfies this requirement with respect to the above-listed information collections, as provided in 5 CFR 1320.5(b)(2)(ii).

Issued in Washington, DC.
Hilary Duke,
Assistant General Counsel for Regulatory Affairs, Pension Benefit Guaranty Corporation.

[FR Doc. 2023-26067 Filed 11-24-23; 8:45 am]

BILLING CODE 7709-02-P